DEPARTMENT OF HOMELAND SECURITY

Coast Guard

[Docket No. USCG-2024-0743]

National Navigation Safety Advisory Committee; Vacancies

AGENCY: U.S. Coast Guard, Department of Homeland Security.

ACTION: Notice; request for applications.

SUMMARY: The U.S. Coast Guard is accepting applications to fill nineteen (19) vacancies on the National Navigation Safety Advisory Committee (Committee). This Committee advises the Secretary of Homeland Security via the Commandant of the U.S. Coast Guard on matters relating to maritime collisions, rammings, and groundings; Inland Rules of the Road; International Rules of the Road; navigation regulations and equipment; routing measures; marine information; and aids to navigation systems. Individuals currently holding these appointments will need to re-apply if they wish to continue as Committee members.

DATES: Complete applications must reach the U.S. Coast Guard on or before September 30, 2024.

ADDRESSES: Applications must include (a) a cover letter expressing interest in an appointment to the National Navigation Safety Advisory Committee and detailing their qualifications to serve as a representative in one or more of the six identified membership categories, (b) a resume detailing the applicant's relevant experience for the membership categories applied for, and (c) a brief 2-3 paragraph biography written in third-person perspective. Applications should be submitted via email with subject line “Application for NNAVSAC” to smb-basencr-cgnav-nnavsac@uscg.mil.

FOR FURTHER INFORMATION CONTACT: Ms. Danielle Gibb, Alternate Designated Federal Officer of the National Navigation Safety Advisory Committee; telephone 206-831-0261 or email at smb-basencr-cgnav-nnavsac@uscg.mil.

SUPPLEMENTARY INFORMATION: The National Navigation Safety Advisory Committee is a Federal advisory committee. The Committee was authorized on December 4, 2018, by section 601 of the Frank LoBiondo Coast Guard Authorization Act of 2018 (Pub. L. 115-282, 132 Stat. 4192), and is codified in 46 U.S.C. 15107. The Committee operates under the provisions of the Federal Advisory Committee Act, and 46 U.S.C. 15109.

The Committee is required to meet at least once a year in accordance with 46 U.S.C. 15109(a). We expect the Committee will hold meetings twice per year, which may be held in person, virtual, or hybrid of in person and virtual depending on the needs of the Committee to allow maximum flexibility. The meetings are held at locations across the country selected by the U.S. Coast Guard.

Under provisions in 46 U.S.C. 15109(f)(6), if you are appointed as a member of the Committee, your membership term will expire on December 31st of the third full year after the effective date of your appointment. Under provisions 46 U.S.C. 15109(f)(4) the Secretary of Homeland Security may require an individual to have passed an appropriate security background examination before appointment to the Committee.

In this solicitation for Committee members, we will consider applications for nineteen (19) to be selected from the following membership categories:

a. Commercial vessel owners or operators

b. Professional mariners

c. Recreational boaters

d. The recreational boating industry

e. State agencies responsible for vessel or port safety

f. The Maritime Law Association

In accordance with 46 U.S.C. 15107(c)(4), the Secretary of Homeland Security shall, based on the needs of the U.S. Coast Guard, determine the number of members of the Committee who represent each entity specified in each category and should not be construed to require an equal distribution of members representing each entity.

Each member of the Committee must have expertise, knowledge, and experience on matters related to the function of the Committee which is to advise the Secretary of Homeland Security on matters relating to maritime collisions, rammings, and groundings; Inland Rules of the Road; International Rules of the Road; navigation regulations and equipment, routing measures, marine information, and aids to navigations systems.

The members who fill the nineteen (19) positions described above will be appointed to represent the interest of their respective groups and viewpoints and are not Special Government Employees as defined in 18 U.S.C. 202(a).

All members serve at their own expense and receive no salary or other compensation from the Federal Government. The only compensation the members may receive is for travel expenses, including per diem in lieu of subsistence, and actual reasonable expenses incurred in the performance of their direct duties for the Committee in accordance with Federal Travel Regulations.

If you are appointed as a member of the Committee, you will be required to sign a Non-Disclosure Agreement and a Gratuitous Services Agreement.

In order for the Department to fully leverage broad-ranging experience and education, the National Navigation Safety Advisory Committee must be diverse with regard to the stakeholders represented. The Department is committed to pursuing opportunities, consistent with applicable law, to compose a committee that reflects the diversity of the Nation's people.

If you are interested in applying to become a member of the Committee, email your application to smb-basencr-cgnav-nnavsac@uscg.mil as provided in the ADDRESSES section of this notice.

The U.S. Coast Guard will not consider incomplete or late applications.

Privacy Act Statement

Purpose: To obtain qualified applicants to fill nineteen (19) vacancies on the National Navigation Safety Advisory Committee. When you apply for appointment to the DHS' National Navigation Safety Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15107 and 15109; 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: August 26, 2024.
Michael D. Emerson,
Director of Marine Transportation Systems.

[FR Doc. 2024-19458 Filed 8-28-24; 8:45 am]

BILLING CODE 9110-04-P